INTERNATIONAL TRADE COMMISSION

[Investigation Nos. 701-TA-415 and 731-TA-933-934 (Third Review)]

Polyethylene Terephthalate (PET) Film, Sheet, and Strip From India and Taiwan

Determination

On the basis of the record ¹ developed in the subject five-year reviews, the United States International Trade Commission (“Commission”) determines, pursuant to the Tariff Act of 1930 (“the Act”), that revocation of the antidumping duty and countervailing duty orders on polyethylene terephthalate film, sheet, and strip from India and Taiwan would be likely to lead to continuation or recurrence of material injury to an industry in the United States within a reasonably foreseeable time.²

¹ The record is defined in § 207.2(f) of the Commission's Rules of Practice and Procedure (19 CFR 207.2(f)).

² Chair Jason E. Kearns not participating.

Background

The Commission instituted these reviews on July 1, 2019 (84 FR 31343) and determined on October 4, 2019 that it would conduct full reviews (84 FR 67960, December 12, 2019). Notice of the scheduling of the Commission's reviews and of a public hearing to be held in connection therewith was given by posting copies of the notice in the Office of the Secretary, U.S. International Trade Commission, Washington, DC, and by publishing the notice in the Federal Register on March 25, 2020 (85 FR 16957). Subsequently, the Commission cancelled its previously scheduled hearing following a request on behalf of the domestic interested parties (85 FR 43602, July 17, 2020).

The Commission made these determinations pursuant to section 751(c) of the Act (19 U.S.C. 1675(c)). The Commission determined that these reviews were extraordinarily complicated and extended the review period by up to 90 days. It completed and filed its determinations in these reviews on September 17, 2020. The views of the Commission are contained in USITC Publication 5117 (September 2020), entitled Polyethylene Terephthalate (PET) Film, Sheet, and Strip from India and Taiwan: Investigation Nos. 701-TA-415 and 731-TA-933-934 (Third Review).

By order of the Commission.
Issued: September 17, 2020.
Lisa Barton,
Secretary to the Commission.

[FR Doc. 2020-20918 Filed 9-21-20; 8:45 am]

BILLING CODE 7020-02-P